DEPARTMENT OF TRANSPORTATION

Federal Highway Administration

Environmental Assessment: Cameron County, TX

AGENCY: Federal Highway Administration (FHWA), DOT.

ACTION: Opportunity for public hearing for Environmental Assessment (EA).

SUMMARY: FHWA is issuing this notice to advise the public that an opportunity for public hearing will be afforded. If a request is made by interested citizens to have a Public Hearing to discuss the socio-economic and environmental effects of the second international bridge project at the Veterans International Bridge at Los Tomates in Brownsville, Texas. One will be scheduled and adequate notices will be publicized.

FOR FURTHER INFORMATION CONTACT: Gregory S. Punske P.E. District Engineer, Federal Highway Administration, Texas Division, 300 East 8th Street, Room 826, Austin, Texas 78701, Telephone (512) 536-5960.

SUPPLEMENTARY INFORMATION: The Texas Department of Transportation (TxDOT) in cooperation with Cameron County and the City of Brownsville, plan to construct a second international bridge at the Veteran's International Bridge located at Los Tomates from the General Services Administration (GSA) Facilities in Brownsville, Cameron County, Texas, to the International Demarcation line on the Rio Grande, a distance of approximately 0.26 miles. The proposed improvement would be constructed 32 feet downstream of the existing bridge within the existing 300-feet wide right-of-way (ROW) and would not require additional ROW. No displacement of individuals, families, farms or non-profit organizations are anticipated. The new bridge span would provide service to and a connection between Brownsville, Texas and H. Matamoros, Tamaulipas, Mexico. Cameron County and the City of Brownsville plans to submit an international bridge application for the proposed bridge to the Texas Transportation Commission.

The proposed bridge typical section would have an overall width of 56 feet consisting of four 12 feet wide travel lanes and a 5 feet wide security chain link fenced sidewalk for pedestrians. The proposed bridge approach roadway would consist of four 12′ wide travel lanes, a sidewalk and shoulders with variable width. The bridge connection or the center bridge span would have an overall maximum width of 88 feet and would consist of two 12 feet wide travel lanes, a travel lane of variable width with a minimum from 12 feet to a maximum of 48 feet and a 5 feet wide security chain link fenced sidewalk for pedestrians. The proposed bridge on the U.S. side would be connected to a similar proposed bridge structure in the Mexico side. A mid-point connection of the two bridges would be constructed to provide flexibility in operation, maintenance, and security. Five bridge spans near the river would join the existing bridge to the proposed bridge. This transitional connection would allow for one bridge to be operational while maintenance is undertaken on the opposite bridge. This bridge connection section would allow traffic diversion from one bridge to another in case of an accident or emergency.

Approximately 0.406 acres of waters of the U.S. including wetlands would be impacted by the proposed improvements. The proposed project is located within the 100-year floodplain and would permit the conveyance of the 100-year flood without causing significant damage. Information about the tentative construction schedule can be obtained from the district office.

Location maps, design plans, schematic, environmental assessment and other available information concerning the proposed project are on file and available for viewing at the TxDOT District office (956) 702-6100 located at 600 W. U.S. Expressway 83 in Pharr. Copies can be obtained by submitting a written request to the Pharr District office. For your convenience, it is advised to call beforehand to schedule an appointment to view the available information. Information about the tentative construction schedule can be obtained from the district office.

Interested citizens may request a Public Hearing to be held to discuss the socio-economic and environmental effects of the highway project by mailing a written request to the District Engineer's Office at the P.O. Box 1717 in Pharr, Texas 78577, faxing request to (956) 702-6110, or e-mailing request to rgelsto@dot.state.tx.us on or before Tuesday, December 15, 2009, 5 p.m.

In the event such a request is received, a Public Hearing will be scheduled and adequate notices will be publicized regarding the date and location of the hearing. If a public hearing is requested, persons who require special communication or accommodation needs are encouraged to contact Amy Rodriguez at (956) 702-6100 at least five days before the hearing.

Comments and suggestions from all interested parties are invited to ensure that the full range of issues related to the proposed project are identified and addressed. Comments or questions concerning this proposed action and the EA should be directed to the FHWA at the address provided above.

(Catalog of Federal Domestic Assistance Program Number 20.205, Highway Research, Planning and Construction. The regulations implementing Executive Order 12372 regarding intergovernmental consultation on Federal programs and activities apply to this program.)

Issued on: November 5, 2009.
Gregory S. Punske,
District Engineer, Austin, Texas.

[FR Doc. E9-27152 Filed 11-10-09; 8:45 am]

BILLING CODE 4910-22-P